DEPARTMENT OF TRANSPORTATION

Pipeline and Hazardous Materials Safety Administration Office of Hazardous Materials Safety

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 16, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on February 06, 2012.
Donald Burger,
Chief, General Approvals and Permits.

Application No. | Docket No. | Applicant | Regulation(s) affected | Nature of special permits thereof
NEW SPECIAL PERMITS
15535-N |  | PM HELI-OPS, CENTRAL POINT, OR | 49 CFR 172.101 Column (9B), 172.204(c)(3), 173.27(b)(2) and 175.30(a)(1) | To authorize the transportation in commerce of certain forbidden explosives in sling load operations in remote areas of the U.S. without being subject to hazard communication requirements, quantity limitations and certain loading and stowage requirements. (mode 4) | 15536-N |  | WavesinSolids LLC, State College, PA | 49 CFR 173.302 and 180.209 | To authorize the transportation in commerce of certain cylinders which have been alternatively ultrasonically retested for use in transporting Division 2.1, 2.2 and 2.3 materials. (modes 1, 2, 3, 4, 5) | 15541-N |  | T.L. Forest Products, Inc., dba Timberland Logging, Ashland, OR | 49 CFR 49 CFR Parts 172.101, Column (9b), 172.204(c)(3), 173.27(b)(2), 175.30(a)(1), 172.200, 172.300, and 172.400 | To authorize the transportation in commerce of certain cylinders which have been alternatively ultrasonically retested for use in transporting hazardous materials by cargo aircraft including by external load in remote areas without being subject to hazard communication requirements and quantity limitations where no other means of transportation is available. (mode 4)
15552-N |  | POLY-COAT SYSTEMS, INC. Liverpool, TX | 49 CFR 173.240, 173.241, 173.242, 173.243 and 172.244 | To authorize the manufacture, marking, sale and use of fiberglass reinforced plastic (GFRP) as the basic material of construction for DOT-412/407 type cargo tanks. (mode 1)
15553-N |  | Best Sanitizers, Inc., Walton, KY | 49 CFR 172.102 Special provision A6 | To authorize the transportation of non-bulk combination packages of medical grade instrument sanitizer and disinfectant materials using custom inner packagings placed within a strong outer fiberboard box (mode 4) | 15555-N |  | Schlumberger Oilfield UK Plc Dyce, Aberdeen, UK | 49 CFR 173.201(c), 173.202(c), 173.203(c), 173.301(f), 173.302(a), and 173.304(a) and (d) | To authorize the transportation in commerce of a toxic flammable gas in a non-DOT specification cylinder. (modes 1, 2, 3, 4) | 15556-N |  | Winco Inc., Aurora, OR | 49 CFR 49 CFR Table § 172.101, Column (9B), § 172.204(c)(3), § 173.27(b)(2) and § 175.30(a)(1) §§ 172.200 and 172.301(c) and 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4)
15558-N |  | 3M Company, St. Paul, MN | 49 CFR 173.212 | To authorize the manufacture, marking, sale, and use of service motor vehicles for use in transporting a corrosive solid material in alternative packaging. (modes 1, 3)
15560-N |  | San Joaquin Helicopters, Delano, CA | 49 CFR 172.101 Column (9B), § 172.204(c)(3), § 173.27(b)(2), § 175.30(a)(1), §§ 172.200, 172.300, 172.400, 173.302(f)(3) and § 175.75 | To authorize the transportation in commerce of certain hazardous materials by Part 133 Rotorcraft External Load Operations, attached to or suspended from an aircraft, in remote areas of the U.S. without meeting certain hazard communication and stowage requirements. (mode 4)

[FR Doc. 2012-3262 Filed 2-14-12; 8:45 am]

BILLING CODE 4909-60-M